DEPARTMENT OF TRANSPORTATION

Office of the Secretary

[Docket No. OST-95-177]

Notice of Request for Extension of Previously Approved Collection

AGENCY: Office of the Secretary.

ACTION: Notice and request for comments.

SUMMARY: In accordance with the Paperwork Reduction Act of 1995 (44 U.S.C. 3501 et seq.), this notice announces that the Information Collection Request (ICR) abstracted below has been forwarded to the Office of Management and Budget (OMB) for renewal and comment. The ICR describes the nature of the information collection and its expected cost and burden. The Federal Register Notice with a 60-day comment period soliciting comments on the following collection of information was published on July 20, 2005 [FR Vol. 70, No. 138, pages 41808 and 41809]. No. comments were received.

DATES: Comments on this notice must be received by October 28, 2005, attention DOT/OST Desk Officer, Office of Information and Regulatory Affairs, Office of Management and Budget, Docket Library, Room 10102, 725 17th Street, NW., Washington, DC 20503.

FOR FURTHER INFORMATION CONTACT: Jack Schmidt, Office of the Assistant Secretary for Aviation and International Affairs, Office of the Secretary, U.S. Department of Transportation, 400 Seventh Street, SW., Washington, DC 20590, (202) 366-5420.

SUPPLEMENTARY INFORMATION: Title: Disclosure of Change-of-Gauge Services.

OMB Control Number: 2105-0538.

Affected Public: All U.S. air carriers, foreign air carriers, computer reservations systems (CSRs), travel agents doing business in the United States, and the traveling public.

Estimated Total Annual Burden on Respondents: 205,908 to 617,736 hours.

Comments are invited on: (a) Whether this proposed collection of information is necessary for the proper performance of the functions of the agency, including whether the information will have practical utility; (b) the accuracy of the agency's estimate of burden of the proposed collection of information; (c) ways to enhance the quality, utility, and clarity of the information to be collected; and (d) ways to minimize the burden of the collection of information on the respondents, including through the use of automated techniques or other forms of information technology. All responses to this notice will be summarized and included in the request for OMB approval. All comments will also become a matter of public record.

All responses to this notice will be summarized and included in the request for OMB approval. All comments will also become a matter of public record.

Issued in Washington, DC on September 21, 2005.
Steven Lott,
Manager, Strategic Integration, IT Investment Management Office.

[FR Doc. 05-19343 Filed 9-27-05; 8:45 am]

BILLING CODE 4910-62-P